DEPARTMENT OF DEFENSE

Department of the Army; Corps of Engineers

Notice of Amendment to the Notice of Intent To Prepare an Environmental Impact Statement for the Missouri River Recovery Management Plan, Missouri River, United States

AGENCY: Department of the Army, U.S. Army Corps of Engineers, DoD.

ACTION: Notice of Intent.

SUMMARY: Pursuant to the National Environmental Policy Act of 1969 (NEPA), as amended, the U.S. Army Corps of Engineers (USACE), Kansas City and Omaha Districts, intend to prepare the Missouri River Recovery Management Plan and Environmental Impact Statement (EIS). This Notice of Intent amends the notice published in the Federal Register on January 18, 2013 (78 FR 4136) to provide additional and updated public scoping information.

FOR FURTHER INFORMATION CONTACT: For further information and/or questions about the proposed Plan, please contact Mr. Mark Harberg, Project Manager, by telephone: (402) 995-2554, by mail: 1616 Capitol Avenue, Omaha, NE 68102-4901, or by email: Mark.Harberg@usace.army.mil. For inquiries from the media, please contact the Corps' Kansas City District Public Affairs Officer, Mr. David Kolarik by telephone: (816) 389-3486, by mail: 601 E. 12th Street Kansas City, MO 64106, or by email: David.S.Kolarik@usace.army.mil.

SUPPLEMENTARY INFORMATION: Through preparation of the Management Plan and EIS, USACE will develop a range of alternatives for the purposes of Missouri River recovery and mitigation. This federal action includes activities on the Missouri River and is designed to assist in the recovery of Missouri River species protected under the Federal Endangered Species Act (ESA). Mitigation actions address USACE's requirements pursuant to the 1958 Fish and Wildlife Coordination Act (PL 85-624), section 601(a) of the Water Resources Development Act (WRDA) of 1986, and section 334(a) and (b) of the WRDA of 1999, and Section 3176 of the WRDA 2007.

Section 3176 of WRDA 2007 expanded the USACE's authority to include recovery and mitigation activities on the Missouri River in the upper basin states of Montana, Nebraska, North Dakota, and South Dakota. The combination of recovery and mitigation activities is commonly referred to as the Missouri River Recovery Program.

In accordance with 40 CFR 1502.4 (c), this EIS will evaluate all proposals or parts of proposals similar in nature such that, in effect, they represent a single course of action. The Missouri River Recovery Management Plan and Environmental Impact Statement will assess and, where appropriate, supplement or update prior analysis made pursuant to the requirements listed above. The EIS will assess the programmatic impacts, cumulative effects and alternatives to accomplish the purposes of the ESA, the 1958 Fish and Wildlife Coordination Act (PL 85-624), section 601(a) of the Water Resources Development Act (WRDA) of 1986, and section 334(a) and (b) of the WRDA of 1999, and Section 3176 of the WRDA 2007. The federal actions which implement those authorities have been combined into one program and are being assessed together to effectively and efficiently carry out the multiple goals associated with the authorizations. Additionally to be addressed in this EIS, the USACE has received a proposal from the Missouri River Recovery Implementation Committee, recommending the agency perform an effects analysis and adaptive management of potential management actions on ESA listed species. Addressing this proposal will result in an analysis of management alternatives and adaptive management actions to benefit these species, and thus requires supporting environmental effects analyses which will be included in this Environmental Impact Statement.

The Missouri River Recovery Management Plan and EIS will be narrower than the scope and purpose of the study from section 5018(a) of the Water Resources Development Act of 2007 (Missouri River Ecosystem Restoration Plan). That study included the additional purpose of ecosystem restoration and was inclusive of the entire Missouri River watershed, including tributaries, while this plan and EIS will focus exclusively on the purposes of recovery and mitigation and be limited primarily to the areas and objectives prescribed in the authorities listed above.

Scoping. To provide the public with an opportunity to provide input on the scope of issues to be addressed and to identify issues related to the proposed action, public scoping is being conducted through October 18, 2013. To facilitate the scoping process, live scoping webinars will be conducted on September 11, 2013 and September 18, 2013 from 3:00 p.m. to 4:30 p.m. Central Daylight Savings time. The webinars can be accessed at https://connect.dco.dod.mil/mngtplan. The webinars may also be viewed at the following public locations:

Montana

• Montana Fish, Wildlife & Parks, Fort Peck State Fish Hatchery, 277 Hwy 117, Fort Peck, MT 59223

Wyoming

• State Engineer's Office, 122 West 25th Street, Herschler Building, Fourth Floor East Wing, Cheyenne, WY 82002

• Natural Resources Conservation Service, Douglas Service Center, 911 South Wind River Drive, Douglas, WY 82633

North Dakota

• U.S. Fish and Wildlife Service, North Dakota Field Office, 3425 Miriam Avenue, Bismarck, ND 58501

South Dakota

• U.S. Army Corps of Engineers/National Park Service, Lewis and Clark Visitor Center, adjacent to Gavins Point Dam in Yankton SD located on the south side of the Missouri River, 55245 Nebraska Highway 121, Crofton, NE 68730

Nebraska

• Papio-Missouri River NRD/Chalco Hills-Wehrspann Lake, 8901 S. 154th Street, Omaha, NE 68138

Iowa

• Natural Resources Conservation Service, 3539 Southern Hills Dr, Suite 3, Sioux City, IA 51106

Kansas

• Environmental Protection Agency, Region 7, 11201 Renner Blvd., Lenexa, KS 66219

Missouri

• Natural Resources Conservation Service, Parkade Center, Suite 232, 601 Business Loop 70 West, Columbia, MO 65203

The webinars will consist of a 30-minute background presentation, a 30-minute question and answer period, and 30 minutes for comment submission. Written comments can be submitted through October 18, 2013 at the National Park Service Planning, Environment & Public Comment (PEPC) Web site at http://parkplanning.nps.gov/MRRMP or by mail to U.S. Army Corps of Engineers, Kansas City District, c/o CENWK-PM-PR (Management Plan), 601 E. 12th Street Kansas City, MO 64106. All comments will become part of a public record and may be included as an appendix to the Final Management Plan and Environmental Impact Statement.

Additional information concerning the Management Plan and Environmental Impact Statement can be found at http://moriverrecovery.usace.army.mil.

Dated: August 2, 2013.
Randy Sellers,
Environmental Resources Specialist.

[FR Doc. 2013-19297 Filed 8-8-13; 8:45 am]

BILLING CODE 3720-58-P